DEPARTMENT OF TRANSPORTATION

Federal Aviation Administration

14 CFR Part 39

[Docket No. FAA-2020-0094; Product Identifier 2019-NM-188-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2018-06-07, which applies to all The Boeing Company Model 757-200, -200CB, and -300 series airplanes. AD 2018-06-07 requires inspecting the fuselage frame at a certain station for existing repairs, repetitive inspections, and applicable repairs. Since the FAA issued AD 2018-06-07, the agency has received reports of new crack findings outside of the AD 2018-06-07 inspection area, which the current inspections will not detect. This proposed AD would continue to require the actions in AD 2018-06-07, with an expanded inspection area, additional inspections, a modified inspection type, and applicable repairs. The FAA is proposing this AD to address the unsafe condition on these products.

DATES: The FAA must receive comments on this proposed AD by April 3, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Boeing service information identified in this NPRM, contact Boeing Commercial Airplanes, Attention: Contractual & Data Services (C&DS), 2600 Westminster Blvd., MC 110-SK57, Seal Beach, CA 90740-5600; phone: 562-797-1717; internet: https://www.myboeingfleet.com.

For Aviation Partners Boeing service information identified in this NPRM, contact Aviation Partners Boeing, 2811 S 102nd Street, Suite 200, Seattle, WA 98168; phone: 206-830-7699; internet: https://www.aviationpartnersboeing.com.

You may view this service information at the FAA, Transport Standards Branch, 2200 South 216th St., Des Moines, WA. For information on the availability of this material at the FAA, call 206-231-3195. Boeing Alert Service Bulletin 757-53A0108, Revision 1, dated July 17, 2019, is also available on the internet at https://www.regulations.gov by searching for and locating Docket No. FAA-2020-0094.

Examining the AD Docket

You may examine the AD docket on the internet at https://www.regulations.gov by searching for and locating Docket No. FAA-2020-0094; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Peter Jarzomb, Aerospace Engineer, Airframe Section, FAA, Los Angeles ACO Branch, 3960 Paramount Boulevard, Lakewood, CA 90712-4137; phone: 562-627-5234; fax: 562-627-5210; email: peter.jarzomb@faa.gov.

SUPPLEMENTARY INFORMATION:

Comments Invited

The FAA invites you to send any written relevant data, views, or arguments about this proposal. Send your comments to an address listed under the ADDRESSES section. Include “Docket No. FAA-2020-0094; Product Identifier 2019-NM-188-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this proposed AD.

Discussion

The FAA issued AD 2018-06-07, Amendment 39-19227 (83 FR 13398, March 29, 2018) (“AD 2018-06-07”), for all The Boeing Company Model 757-200, -200CB, and -300 series airplanes. AD 2018-06-07 requires inspecting the fuselage frame at station (STA) 1640 for existing repairs, repetitive inspections, and applicable repairs. AD 2018-06-07 resulted from a report of fatigue cracking found in a certain fuselage frame, which severed the inner chord and web. The FAA issued AD 2018-06-07 to address cracking of the fuselage frame at STA 1640, which could result in reduced structural integrity of the airplane.

Actions Since AD 2018-06-07 Was Issued

Since the FAA issued AD 2018-06-07, the FAA has received reports of new crack findings outside of the AD 2018-06-07 inspection area. During the inspections required by AD 2018-06-07, an operator found the STA 1640 frame with a crack starting from the third fastener below the stringer S-14 intercostal on the right side. The crack was approximately 3 inches long and had grown into an insulation stud hole in the web near the outer chord. The crack was not in the area inspected as required by AD 2018-06-07. There have also been reports of cracks found growing out of the fastener holes in the inner chord in the aft direction, towards the web away from the original inspection areas. The FAA has therefore determined that the inspection area must be expanded and new inspections must be added.

Related Service Information Under 1 CFR Part 51

The FAA has reviewed Boeing Alert Service Bulletin 757-53A0108, Revision 1, dated July 17, 2019. This service information describes procedures for an inspection of the fuselage frame for existing frame repairs or replacements, a detailed inspection for any crack, nick, or gouge in the STA 1640 fuselage frame, repetitive high frequency eddy current and low frequency eddy current inspections for cracking in the STA 1640 fuselage frame between stringers S-11 and S-16, and repair.

The FAA has also reviewed Aviation Partners Boeing (APB) Alert Service Bulletin AP757-53-001, Revision 2, dated October 22, 2019. This service information provides compliance times for accomplishing the procedures identified in Boeing Alert Service Bulletin 757-53A0108, Revision 1, dated July 17, 2019, for airplanes on which APB blended or scimitar blended winglets are installed.

This service information is reasonably available because the interested parties have access to it through their normal course of business or by the means identified in the ADDRESSES section.

FAA's Determination

The FAA is proposing this AD because the FAA has evaluated all the relevant information and determined the unsafe condition described previously is likely to exist or develop in other products of the same type design.

Proposed AD Requirements

Although this proposed AD does not explicitly restate the requirements of AD 2018-06-07, this proposed AD would retain certain requirements of AD 2018-06-07. Those requirements are referenced in the service information identified previously, which, in turn, is referenced in paragraph (g) of this proposed AD. This proposed AD would expand the inspection area, add inspections, and modify a certain inspection type.

This proposed AD would also require accomplishment of the actions identified as “RC” (required for compliance) in the Accomplishment Instructions of Boeing Alert Service Bulletin 757-53A0108, Revision 1, dated July 17, 2019; and Aviation Partners Boeing (APB) Alert Service Bulletin AP757-53-001, Revision 2, dated October 22, 2019, described previously, except for any differences identified as exceptions in the regulatory text of this proposed AD.

The initial compliance times for the airplanes identified in Boeing Alert Service Bulletin 757-53A0108, Revision 1, dated July 17, 2019, range from within 500 flight cycles after the effective date of this AD, to within 16,000 flight cycles after the installation of the local frame replacement, depending on the configuration. The repetitive intervals range from 1,800 flight cycles to 10,400 flight cycles, depending on the configuration.

The initial compliance times for the airplanes identified in Aviation Partners Boeing (APB) Alert Service Bulletin AP757-53-001, Revision 2, dated October 22, 2019, range from within 500 flight cycles after the effective date of this AD, to within 16,000 flight cycles after the installation of the local frame replacement, depending on the configuration. The repetitive intervals range from 1,900 flight cycles to 8,600 flight cycles, depending on the configuration.

For information on the procedures and compliance times, see Boeing Alert Service Bulletin 757-53A0108, Revision 1, dated July 17, 2019, at https://www.regulations.gov by searching for and locating Docket No. FAA-2020-0094.

Costs of Compliance

The FAA estimates that this proposed AD affects 606 airplanes of U.S. registry. The FAA estimates the following costs to comply with this proposed AD:

Estimated Costs for Required Actions
Action | Labor cost | Parts cost | Cost per product | Cost on U.S. operators
Inspection for existing frame repairs or replacements | 1 work-hour × $85 per hour = $85 | $0 | $85 | $51,510.
Detailed inspection | 1 work-hour × $85 per hour | 0 | $85 | $51,510.
Repetitive high and low frequency inspections for Groups 1 through 3 airplanes (598 airplanes) | 54 work-hours × $85 per hour = $4,590 per inspection cycle | 0 | $4,590 per inspection cycle | $2,744,820 per inspection cycle.
Repetitive high and low frequency inspections for Groups 4 and 5 airplanes (8 airplanes) | 49 work-hours × $85 per hour = $4,165 per inspection cycle | 0 | $4,165 per inspection cycle | $33,320 per inspection cycle.

The FAA has received no definitive data that would enable us to provide cost estimates for the on-condition repair specified in this proposed AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-06-07, Amendment 39-19227 (83 FR 13398, March 29, 2018), and adding the following new AD:

The Boeing Company: Docket No. FAA-2020-0094; Product Identifier 2019-NM-188-AD.

(a) Comments Due Date

The FAA must receive comments on this AD action by April 3, 2020.

(b) Affected ADs

This AD replaces AD 2018-06-07, Amendment 39-19227 (83 FR 13398, March 29, 2018) (“AD 2018-06-07”).

(c) Applicability

This AD applies to all The Boeing Company Model 757-200, -200CB, and -300 series airplanes, certificated in any category.

(d) Subject

Air Transport Association (ATA) of America Code 53, Fuselage.

(e) Unsafe Condition

This AD was prompted by a report of fatigue cracking found in the fuselage frame at station (STA) 1640, which severed the inner chord and web. The FAA is issuing this AD to address cracking of the fuselage frame at STA 1640, which could result in reduced structural integrity of the airplane.

(f) Compliance

Comply with this AD within the compliance times specified, unless already done.

(g) Actions Required for Compliance

(1) For all airplanes except those identified in paragraphs (g)(2) through (4) of this AD: Except as specified by paragraph (h) of this AD, at the applicable times specified in paragraph 1.E., “Compliance,” of Boeing Alert Service Bulletin 757-53A0108, Revision 1, dated July 17, 2019, do all applicable actions identified as “RC” (required for compliance) in, and in accordance with, the Accomplishment Instructions of Boeing Alert Service Bulletin 757-53A0108, Revision 1, dated July 17, 2019.

(2) For airplanes on which Aviation Partners Boeing (APB) blended or scimitar blended winglets are installed using Supplemental Type Certificate (STC) ST01518SE: Except as specified by paragraph (h) of this AD, at the applicable times specified in paragraph 1.E., “Compliance,” of Aviation Partners Boeing (APB) Alert Service Bulletin AP757-53-001, Revision 2, dated October 22, 2019, do all applicable actions identified as “RC” in, and in accordance with, the Accomplishment Instructions of Aviation Partners Boeing (APB) Alert Service Bulletin AP757-53-001, Revision 2, dated October 22, 2019.

(3) For Group 1 airplanes that have been converted from passenger to freighter configuration using VT Mobile Aerospace Engineering (MAE) Inc. STC ST03562AT: Except as specified by paragraph (h) of this AD, at the applicable times specified for Group 2 airplanes in the “Compliance” paragraph of Boeing Alert Service Bulletin 757-53A0108, Revision 1, dated July 17, 2019, do all applicable Group 2 actions, as identified in, and in accordance with, the Accomplishment Instructions of Boeing Alert Service Bulletin 757-53A0108, Revision 1, dated July 17, 2019.

(4) For Group 4 airplanes that have been converted from a passenger to freighter configuration using VT MAE Inc. STC ST03562AT: Except as specified by paragraph (h) of this AD, at the applicable times specified for Group 5 airplanes in the “Compliance” paragraph of Boeing Alert Service Bulletin 757-53A0108, Revision 1, dated July 17, 2019, do all applicable Group 5 actions as identified in, and in accordance with, the Accomplishment Instructions of Boeing Alert Service Bulletin 757-53A0108, Revision 1, dated July 17, 2019.

(h) Exceptions to Service Information Specifications

(1) Where Boeing Alert Service Bulletin 757-53A0108, Revision 1, dated July 17, 2019, specifies contacting Boeing for repair instructions or for alternative inspections: This AD requires doing the repair, or doing the alternative inspections and applicable on-condition actions using a method approved in accordance with the procedures specified in paragraph (i) of this AD.

(2) Where Boeing Alert Service Bulletin 757-53A0108, Revision 1, dated July 17, 2019, uses the phrase “the original issue date of this service bulletin,” this AD requires using “May 3, 2018 (the effective date of AD 2018-06-07),” except where Alert Service Bulletin 757-53A0108, Revision 1, dated July 17, 2019, uses the phrase “the original issue date of this service bulletin” in a note or flag note.

(3) Where Boeing Alert Service Bulletin 757-53A0108, Revision 1, dated July 17, 2019, uses the phrase “the revision 1 date of this service bulletin,” this AD requires using “the effective date of this AD.”

(4) Where Aviation Partners Boeing (APB) Alert Service Bulletin AP757-53-001, Revision 2, dated October 22, 2019, specifies contacting Boeing for repair instructions or for alternative inspections: This AD requires doing the repair, or doing the alternative inspections and applicable on-condition actions using a method approved in accordance with the procedures specified in paragraph (i) of this AD.

(5) Where Aviation Partners Boeing (APB) Alert Service Bulletin AP757-53-001, Revision 2, dated October 22, 2019, uses the phrase “the revision 1 issue date of this service bulletin,” this AD requires using “May 3, 2018 (the effective date of AD 2018-06-07),” except where Aviation Partners Boeing (APB) Alert Service Bulletin AP757-53-001, Revision 2, dated October 22, 2019, uses the phrase “the revision 1 issue date of this service bulletin” in a note or flag note.

(6) Where Aviation Partners Boeing (APB) Alert Service Bulletin AP757-53-001, Revision 2, dated October 22, 2019, uses the phrase “the revision 2 issue date of this service bulletin,” this AD requires using “the effective date of this AD.”

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2018-06-07 are not approved as AMOCs for the corresponding provisions of this AD.

(5) Except as specified by paragraph (h) of this AD: For service information that contains steps that are labeled as Required for Compliance (RC), the provisions of paragraphs (i)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

(1) For more information about this AD, contact Peter Jarzomb, Aerospace Engineer, Airframe Section, FAA, Los Angeles ACO Branch, 3960 Paramount Boulevard, Lakewood, CA 90712-4137; phone: 562-627-5234; fax: 562-627-5210; email: peter.jarzomb@faa.gov.

(2) For Aviation Partners Boeing service information identified in this AD, contact Aviation Partners Boeing, 2811 S 102nd Street, Suite 200, Seattle, WA 98168; phone: 206-830-7699; internet: https://www.aviationpartnersboeing.com.

(3) For Boeing service information identified in this AD, contact Boeing Commercial Airplanes, Attention: Contractual & Data Services (C&DS), 2600 Westminster Blvd., MC 110-SK57, Seal Beach, CA 90740-5600; phone: 562-797-1717; internet: https://www.myboeingfleet.com.

(4) You may view this referenced service information at the FAA, Transport Standards Branch, 2200 South 216th St., Des Moines, WA. For information on the availability of this material at the FAA, call 206-231-3195.

Issued on February 11, 2020.
Gaetano A. Sciortino,
Deputy Director for Strategic Initiatives, Compliance & Airworthiness Division, Aircraft Certification Service.

[FR Doc. 2020-03084 Filed 2-14-20; 8:45 am]

BILLING CODE 4910-13-P